SURFACE TRANSPORTATION BOARD

[Docket No. FD 36614]

Norfolk Southern Railway Company—Trackage Rights Exemption—Union County Industrial Railroad Company

Norfolk Southern Railway Company (NSR) has filed a verified notice of exemption under 49 CFR 1180.2(d)(7) for acquisition of overhead trackage rights over 3.1 miles of rail line leased by Union County Industrial Railroad Company (UCIR) and owned by West Shore Railroad Corporation between NSR milepost BR 246.9, near Milton, Pa., and UCIR milepost 172.62, near New Columbia, Pa. (the Line).

NSR and UCIR have entered into a written trackage rights agreement that grants NSR overhead trackage rights over the Line, allowing NSR to serve the Clemens Food Group Facility, or its successor or assignee.¹

¹ A redacted version of the trackage rights agreement between NSR and UCIR was filed with the verified notice. An unredacted version of the agreement was submitted to the Board under seal concurrently with a motion for protective order, which is addressed in a separate decision.

The transaction may be consummated on or after August 5, 2022, the effective date of the exemption.

As a condition to this exemption, any employees affected by the acquisition of the trackage rights will be protected by the conditions imposed in Norfolk & Western Railway—Trackage Rights—Burlington Northern, Inc., 354 I.C.C. 605 (1978), as modified in Mendocino Coast Railway—Lease & Operate—California Western Railroad, 360 I.C.C. 653 (1980).

If the notice contains false or misleading information, the exemption is void ab initio. Petitions to revoke the exemption under 49 U.S.C. 10502(d) may be filed at any time. The filing of a petition to revoke will not automatically stay the effectiveness of the exemption. Petitions for stay must be filed no later than July 29, 2022 (at least seven days before the exemption becomes effective).

All pleadings, referring to Docket No. FD 36614, must be filed with the Surface Transportation Board via e-filing on the Board's website or in writing addressed to 395 E Street SW, Washington, DC 20423-0001. In addition, a copy of each pleading must be served on NSR's representative, William A. Mullins, Baker & Miller PLLC, 2401 Pennsylvania Avenue NW, Suite 300, Washington, DC 20037.

According to NSR, this action is categorically excluded from environmental review under 49 CFR 1105.6(c) and from historic preservation reporting requirements under 49 CFR 1105.8(b).

Board decisions and notices are available at www.stb.gov.

Decided: July 18, 2022.
By the Board, Mai T. Dinh, Director, Office of Proceedings.
Regena Smith-Bernard,
Clearance Clerk.

[FR Doc. 2022-15713 Filed 7-21-22; 8:45 am]

BILLING CODE 4915-01-P